COMMODITY FUTURES TRADING COMMISSION

Agency Information Collection Activities Under OMB Review: Notice of Intent To Renew Collection 3038-0054, Establishing Procedures for Entities Operating as Exempt Markets

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and the expected costs and burden.

DATES: Comments must be submitted on or before January 5, 2011.

FOR FURTHER INFORMATION CONTACT: David Van Wagner, Chief Counsel, Division Of Market Oversight, U.S. Commodity Futures Trading Commission, 1155 21st Street, NW., Washington, DC 20581, (202) 418-5481; FAX: (202) 418-5527; e-mail: dvanwagner@cftc.gov and refer to OMB Control No. 3038-0054.

SUPPLEMENTARY INFORMATION: Title: Establishing Procedures for Entities Operating as Exempt Markets, OMB Control No. 3038-0054. This is a request for extension of a currently approved information collection.

Abstract: Sections 2(h)(3) through (5) of the Commodity Exchange Act (Act) provides that exempt commercial markets (ECMs) are markets excluded from the Act's other requirements. The rules implement the qualifying conditions of the exemption. Rule 36.3(a) implements the notification requirements, and rule 36.3(b)(1) establishes information requirements for ECMs consistent with section 2(h)(5)(B) of the Act. An ECM may provide the Commission with access to transactions conducted on the facility or it can satisfy its reporting requirements by complying with the Commission's reporting requirements. The Act affirmatively vests the Commission with comprehensive anti-manipulation enforcement authority over these trading facilities. The Commission is charged with monitoring these markets for manipulation and enforcing the anti-manipulation provisions of the Act. The informational requirements imposed by proposed rules are designed to ensure that the Commission can effectively perform these functions. Section 5d of the Act establishes a category of market exempt from Commission oversight referred to as “exempt boards of trade” (EBOTs). Rule 36.2 implements regulations that define those commodities that are eligible to trade on an EBOT. Rule 36.2(b) implements the notification requirements of section 5d of the Act. Rule 36.2(b)(1) requires EBOTs relying on this exemption to disclose to traders that the facility and trading on the facility is not regulated by the Commission. This requirement is necessary to make manifest the nature of the market and to avoid misleading the public.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on August 27, 2010 (75 FR 52731).

Burden statement: The respondent burden for this collection is estimated to average 20 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 23.

Estimated number of responses: 23.

Estimated total annual burden on respondents: 230 hours.

Frequency of collection: Annually.

Send comments regarding the burden estimated or any other aspect of the information collection, including suggestions for reducing the burden, to the addresses listed below. Please refer to OMB Control No. 3038-0054 in any correspondence.

David P. Van Wagner, Chief Counsel, Division Of Market Oversight, U.S. Commodity Futures Trading Commission, 1155 21st Street, NW., Washington, DC 20581, and Office of Information and Regulatory Affairs, Office of Management and Budget, Attention: Desk Officer for CFTC, 725 17th Street, Washington, DC 20503.

David Stawick,
Secretary of the Commission.

[FR Doc. 2010-30474 Filed 12-3-10; 8:45 am]

BILLING CODE 6351-01-P